DEPARTMENT OF ENERGY

Federal Energy Regulatory Commission

[Docket No. PL19-3-000]

Inquiry Regarding the Commission's Electric Transmission Incentives Policy

Correction

In notice document 2019-05895 beginning on page 11759 in the issue of Thursday, March 28, 2019, make the following correction:

On page 11759, in the second column the DATES paragraph should read as follows:

DATES: Initial Comments are due June 26, 2019, and Reply Comments are due July 26, 2019.

[FR Doc. C1-2019-05895 Filed 4-2-19; 8:45 am]

BILLING CODE 1301-00-D